DEPARTMENT OF ENERGY

Federal Energy Regulatory Commission

[Docket No. ER03-552-000, et al.]

New York Independent System Operator, Inc., et al.; Electric Rate and Corporate Filings

July 1, 2003.

The following filings have been made with the Commission. The filings are listed in ascending order within each docket classification.

1. New York Independent System Operator, Inc.

[Docket No. ER03-552-002]

Take notice that on June 26, 2003, the New York Independent System Operator, Inc. (NYISO), filed a notice that proposed tariff revisions which were originally filed in Docket No. ER03-552-000 under Section 206 of the Federal Power Act should be treated as if they were filed under Section 205 on a prospective basis.

The NYISO states that it has served a copy of this filing to all parties that have executed Service Agreements under the NYISO's OATT or Services Tariff, the New York State Public Service Commission and to the electric utility regulatory agencies in New Jersey and Pennsylvania.

Comment Date: July 17, 2003.

2. New York Independent System Operator, Inc.

[Docket No. ER03-749-001]

Take notice that on June 26, 2003, the New York Independent System Operator, Inc. (NYISO) tendered for filing a compliance filing in connection with the Commission's June 11, 2003, Order in Docket No. ER03-749-000.

The NYISO states thatit has served a copy of this filing to all parties listed on the official service in this proceeding. The NYISO also states that it has served a copy of this filing to all parties that have executed Service Agreements under the NYISO's Open-Access Transmission Tariff or Services Tariff, the New York State Public Service Commission and to the electric utility regulatory agencies in New Jersey and Pennsylvania.

Comment Date: July 17, 2003.

3. Gulf States Energy Investments L.P.

[Docket No. ER03-891-001]

Take notice that on June 26, 2003, Gulf States Energy Investments L.P. submitted an amendment to their filing of May 29, 2003 requesting for acceptance of Gulf States Energy Investments L.P. Rate Schedule FERC No. 1; the granting of certain blanket approvals, including the authority to sell electricity at market-based rates; and the waiver of certain Commission regulations.

Comment Date: July 17, 2003.

4. Fox Energy Company, LLC

[Docket No. ER03-983-000]

Take notice that on June 24, 2003, Fox Energy Company, LLC (the Applicant) tendered for filing, under section 205 of the Federal Power Act (FPA), a request for authorization to make wholesale sales of electric energy, capacity, replacement reserves, and ancillary services at market-based rates, to reassign transmission capacity, and to resell firm transmission rights. The Applicant states that it proposes to own and operate a 635 megawatt gas-fired, combined cycle electric generating facility in Kaukauna, Outagamie County, Wisconsin.

Comment Date: July 15, 2003.

5. Midwest Independent Transmission System Operator, Inc.

[Docket No. ER03-986-000]

Take notice that on July 27, 2003, the Midwest Independent Transmission System Operator, Inc. (Midwest ISO) pursuant to Section 205 of the Federal Power Act and Section 35.12 of the Commission's Regulations, 18 CFR 35.12 , submitted for filing an Interconnection and Operating Agreement among Montana-Dakota Utilities Co., a Division of MDU Resources Group, Inc (Transmission), Midwest ISO and Montana-Dakota Utilities Co., a Division of MDU Resources Group, Inc.(Generation).

Midwest ISO states that a copy of this filing was sent to Montana-Dakota Utilities Co. (Transmission)and Montana-Dakota Utilities Co. (Generation).

Comment Date: July 18, 2003.

6. Illinois Power Company

[Docket No. ER03-987-000]

Take notice that on June 27, 2003, Illinois Power Company (Illinois Power), filed a Third Revised Service Agreement for Network Integration Transmission Service with Illinois Municipal Electric Agency.

Illinois Power requests an effective date of June 1, 2003 for the Agreement and seeks a waiver of the Commission's notice requirement. Illinois Power states that the Agreement has been filed with the Commission because it contains deviations from the form of agreement which is a part of the Illinois Power Open Access Transmission Tariff. Illinois Power also states it has mailed a copy of the filing to the Transmission Customer.

Comment Date: July 18, 2003.

7. Northen Maine Independent System Administrator, Inc.

[Docket No. ER03-988-000

Take notice that on June 27, 2003, the Northern Maine Independent System Administrator, Inc. (NMISA) tendered for filing with the Federal Energy Regulatory Commission (Commission) Service Agreement No. 10 between NMISA and WPS Canada Generation, Inc. (WPS Canada), and Service Agreement No. 11 between NMISA and WPS New England Generation Inc. (WPS New England), both under its FERC Electric Tariff Original Volume No. 1.

NMISA requests waiver of the Commission's notice requirements for an effective date of June 17, 2003. NMISA states that it has served copies of this filing upon representatives of WPS Canada and WPS New England.

Comment Date: July 18, 2003.

8. Kansas City Power & Light Company

[Docket No. ER03-997-000]

Take notice that on June 27, 2003, Kansas City Power & Light Company (KCPL) submitted for filing a Capacity Purchase Extension Agreement between KCPL and the City of Independence, Missouri. Comment Date: July 18, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-17488 Filed 7-9-03; 8:45 am]

BILLING CODE 6717-01-P